FEDERAL COMMUNICATIONS COMMISSION

47 CFR Part 73

[DA 02-3506; MB Docket No. 02-198; RM-10513]

Radio Broadcasting Services; Hilton Head Island, Hollywood, and Port Royal, SC

AGENCY: Federal Communications Commission.

ACTION: Final rule.

SUMMARY: In this document, at the request of Apex Broadcasting, Inc., licensee of Station WJZX(FM), Port Royal, South Carolina, and Monterey Licenses, LLC licensee of Station WLOW(FM), Hilton Head Island, South Carolina the Commission reallots Channel 259C from Port Royal to Hollywood, South Carolina, as the community's first local aural transmission service and modify the license of Station WJZX(FM) to reflect the new community. To accommodate this change, they propose to reallot Channel 300C2 from Hilton Head Island to Port Royal to retain Port Royal's sole local aural transmission service and modify the license of Station WLOW(FM) to reflect the new community. Channel 259C is reallotted from Port Royal to Hollywood at Station WJZX(FM )'s current transmitter site 41.2 km (25.6 miles) southwest of the community at coordinates 32-25-10 NL and 80-28-30 WL. Channel 300C2 is reallotted from Hilton Head Island to Port Royal at Station WLOW(FM)'s current transmitter site 22.3 km (13.9 miles) southwest of the community at coordinates 32-13-36 NL and 80-50-53 WL.

DATES: Effective February 3, 2003.

FOR FURTHER INFORMATION CONTACT: Victoria M. McCauley, Media Bureau, (202) 418-2180.

SUPPLEMENTARY INFORMATION: This is a synopsis of the Commission's Report and Order, MB Docket No. 02-198, adopted December 18, 2002, and released December 20, 2002. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under South Carolina, is amended by removing Channel 300C2 at Hilton Head Island, by adding Hollywood, Channel 259C, by removing Channel 259C and adding Channel 300C2 at Port Royal.

Federal Communications Commission.
John A. Karousos,
Assistant Chief, Audio Division, Media Bureau.

[FR Doc. 03-535 Filed 1-10-03; 8:45 am]

BILLING CODE 6712-01-P